DEPARTMENT OF THE INTERIOR

National Park Service

[NPS-WASO-NRNHL-0212-9551; 2200-3200-665]

National Register of Historic Places; Notification of Pending Nominations and Related Actions

Nominations for the following properties being considered for listing or related actions in the National Register were received by the National Park Service before February 11, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington DC 20005; or by fax, 202-371-6447. Written or faxed comments should be submitted by March 19, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ALABAMA

Macon County

Tuskegee Veterans Administration Hospital (United States Second Generation Veterans Hospitals), 2400 Hospital Rd., Macon, 12000140

Montgomery County

Montgomery Veterans Administration Hospital Historic District (United States Second Generation Veterans Hospitals), 215 Perry Hill Rd., Montgomery, 12000141

Tuscaloosa County

Tuscaloosa Veterans Administration Hospital Historic District (United States Second Generation Veterans Hospitals), 3701 Loop Rd. E., Tuscaloosa, 12000142

COLORADO

Chaffee County

Behrman Ranch, 31715 US 24 N., Buena Vista, 12000143

Costilla County

Iglesia de San Francisco de Assisi (Culebra River Villages of Costilla County MPS), 23531 Cty. Rd. J.2, San Francisco, 12000144

Montezuma County

Indian Camp Ranch Archeological District, Address Restricted, Cortez, 12000145

Montezuma Valley Irrigation Company Flume No. 6, Approx. 4 mi. E. of Cortez on US 160, Cortez, 12000146

Montrose County

Shavano Valley Rock Art Site (Boundary Increase), Address Restricted, Montrose, 12000147

GEORGIA

Cobb County

Taylor—Brawner House and Brawner Sanitarium, 3180 Atlanta Rd., Smyrna, 12000149

Fulton County

Wynne—Claughton Building, 141 Carnegie Way NW., Atlanta, 12000148

KENTUCKY

Fayette County

Lexington Veterans Administration Hospital (United States Second Generation Veterans Hospitals), 2250 Leestown Rd., Lexington, 12000150

MASSACHUSETTS

Middlesex County

Farley—Hitchinson—Kimball House, 461A & 463 North Rd., Bedford, 12000151

Worcester County

Webster Municipal Buildings Historic District, 350 Main, 29 Negus, & 2 Lake Sts., Webster, 12000152

MISSISSIPPI

De Soto County

North Elm Historic District, Roughly bounded by North, W. Robinson, & Memphis Sts., & Holmes Rd., Hernando, 12000153

Hinds County

Municipal Art Gallery, 839 N. State St., Jackson, 12000154

Washington County

Armitage Herschell Carousel, 323 Main St., Greenville, 12000155

Doe's Eat Place, 502 Nelson St., Greenville, 12000156

Wayne County

Downtown Waynesboro Historic District, Roughly bounded by Station, Spring, Wayne, & Court Sts., Waynesboro, 12000157

Yalobusha County

Water Valley Main Street Historic District, Roughly along Main from Young to Market Sts., Water Valley, 12000158

NEW JERSEY

Salem County

Bayuk, Moshe, House, 984 Gershal Ave. (Pittsgrove Township), Alliance, 12000159

NEW YORK

Genesee County

Batavia Veterans Administration Hospital (United States Second Generation Veterans Hospitals), 222 Richmond Ave., Batavia, 12000160

Ontario County

Canandaigua Veterans Hospital Historic District (United States Second Generation Veterans Hospitals), 400 Fort Hill Ave., Canandaigua, 12000161

WASHINGTON

Jefferson County

Quilcene Ranger Station, 61 Herbert St., Quilcene, 12000162

Snohomish County

Naval Auxiliary Air Station, Arlington (Boundary Increase), 18204 59th Dr. NE., Arlington, 12000163

In the interest of preservation, a three (3) day comment period is requested for the following resource:

ALABAMA

Tuscaloosa County

Tuscaloosa Veterans Administration Hospital Historic District (United States Second Generation Veterans Hospitals), 3701 Loop Rd. E., Tuscaloosa, 12000142

[FR Doc. 2012-5007 Filed 3-1-12; 8:45 am]

BILLING CODE 4312-51-P